DEPARTMENT OF COMMERCE

National Oceanic and Atmospheric Administration

[I.D.040407A]

Marine Mammals; File No. 984-1814-01

AGENCY: National Marine Fisheries Service (NMFS), National Oceanic and Atmospheric Administration (NOAA), Commerce.

ACTION: Notice; issuance of permit amendment.

SUMMARY: Notice is hereby given that Dr. Terrie Williams, Department of Ecology and Evolutionary Biology, Center for Ocean Health - Long Marine Laboratory, University of California, 100 Shaffer Road, Santa Cruz, CA, 95060 has been issued an amendment to scientific research Permit No. 984-1814.

ADDRESSES: The amendment and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

FOR FURTHER INFORMATION CONTACT: Kate Swails or Tammy Adams, (301)713-2289.

SUPPLEMENTARY INFORMATION: On February 15, 2007, notice was published in the Federal Register (72 FR 7419) that an amendment of Permit No. 984-1814, issued June 21, 2006 ( 71 FR 37060), had been requested by the above-named individual. The requested amendment has been granted under the authority of the Marine Mammal Protection Act of 1972, as amended (16 U.S.C. 1361 et seq.), and the regulations governing the taking and importing of marine mammals (50 CFR part 216).

Permit No. 984-1814 authorized the permit holder to capture up to 20 adult Weddell seals (Leptonychotes weddellii) and disturb up to 30 adult and 10 juvenile seals annually in McMurdo Sound, Antarctica. The animals have a data logger/video system attached, muscle biopsies and blood samples collected, and blubber thickness measured. The permit also authorizes up to 3 research-related mortalities per year. The amendment changes the field season for this project from five August to December field seasons over 5 years to three back to back field seasons over the course of two research years. Researchers will capture 50 Weddell seals annually for 2 years instead of 20 annually over the course of 5 years. Researchers will attach data logger/video systems to 24 adult seals and another 24 seals will have time-depth recorders attached annually. Researchers will measure metabolic rates of all captured seals using open-flow respirometry.

In compliance with the National Environmental Policy Act of 1969 (42 U.S.C. 4321 et seq.), a final determination has been made that the activity proposed is categorically excluded from the requirement to prepare an environmental assessment or environmental impact statement.

Dated: April 5, 2007.
P. Michael Payne,
Chief, Permits, Conservation and Education Division, Office of Protected Resources, National Marine Fisheries Service.

[FR Doc. E7-6752 Filed 4-9-07; 8:45 am]

BILLING CODE 3510-22-S